DEPARTMENT OF HEALTH AND HUMAN SERVICES

[30-day notice]

Agency Information Collection Request. 30-Day Public Comment Request, Grants.gov

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, to Ed.Calimag@hhs.gov, or call the Reports Clearance Office on (202) 205-1193. Send written comments and recommendations for the proposed information collections within 30 days of this notice directly to the Grants.gov OMB Desk Officer; faxed to OMB at 202-395-6974.

Proposed Project: The SF424C Budget Information—Construction Programs—Reinstatement with Change—OMB No. 4040-0008—Grants.gov Office.

Abstract: Grants.gov is requesting OMB approval to reinstate with change the previously approved the SF424C Budget Information—Construction Programs (SF424C) form (4040-0008) for three years. This form will be utilized by up to 26 Federal grant making agencies.

The SF424C is used to provide budget information when applying for construction Federal grants. The Federal awarding agencies use information reported on the form for the evaluation of award and general management of Federal assistance program awards.

Estimated Annualized Burden Table
Agency | SF-424C No. of annual respondents | No. of responses per respondent | Total annual responses | Average burden on respondent per response in hours | Total burden hours
CNCS | 0 | 1 | 0 | 1 | 0
COMMERCE | 1908 | 1 | 1908 | 1 | 1908
DHS | 1421 | 1 | 1421 | 1 | 1421
DOD | 1 | 1 | 1 | 1 | 1
DOE | 0 | 1 | 0 | 1 | 0
DOI | 131 | 1 | 131 | 1 | 131
DOL | 0 | 1 | 0 | 1 | 0
DOT | 50 | 1 | 50 | 1 | 50
ED | 0 | 1 | 0 | 1 | 0
EPA | 0 | 1 | 0 | 1 | 0
HHS | 52 | 1 | 52 | 1 | 52
HUD | 0 | 1 | 0 | 1 | 0
IMLS | 0 | 1 | 0 | 1 | 0
NARA | 0 | 1 | 0 | 1 | 0
NASA | 0 | 1 | 0 | 1 | 0
NEA | 0 | 1 | 0 | 1 | 0
NEH | 0 | 1 | 0 | 1 | 0
NIST | 193 | 1 | 193 | 1 | 193
NRC | 1 | 1 | 1 | 1 | 1
NSF | 0 | 1 | 0 | 1 | 0
SBA | 26 | 1 | 26 | 1 | 26
SSA | 0 | 1 | 0 | 1 | 0
STATE | 0 | 1 | 0 | 1 | 0
TREASURY | 0 | 1 | 0 | 1 | 0
USAID | 294 | 1 | 294 | 1 | 294
USDA | 7879 | 1 | 7879 | 1 | 7879
USDOJ | 0 | 1 | 0 | 1 | 0
VA | 391 | 1 | 391 | 1 | 391
Total |  |  |  |  | 12,347

Seleda Perryman,
Office of the Secretary, HHS PRA Reports Clearance Officer.

[FR Doc. 2011-3963 Filed 2-22-11; 8:45 am]

BILLING CODE 4151-AE-P